FEDERAL COMMUNICATIONS COMMISSION

47 CFR Part 73

[DA 05-1021; MB Docket No. 05-162; RM-11227]

Radio Broadcasting Services; Enfield, NH; Hartford, VT; Keeseville and Morrisonville, NY; White River Junction, VT

AGENCY: Federal Communications Commission.

ACTION: Proposed rule.

SUMMARY: This document requests comments on a petition for rule making filed by Nassau Broadcasting III, L.L.C. (“Petitioner”), licensee of FM Station WWOD, Channel 282C3, Hartford, Vermont, and FM Station WXLF, Channel 237A, White River Junction, Vermont. Petitioner requests that the Commission (1) allot Channel 282A to Enfield, New Hampshire as its first local radio broadcast service; (2) reallot Channel 282C3 from Hartford, Vermont, to Keeseville, New York, and modify the license of Station WWOD accordingly; (3) reallot Channel 237A from White River Junction, Vermont, to Hartford, Vermont and modify the license of Station WXLF accordingly; and (4) reallot Channel 231A from Keeseville, New York, to Morrisonville, New York, as that community's first local radio broadcast station. The coordinates for Channel 282A at Enfield, New Hampshire are 43-38-30 North Latitude and 72-08-42 West Longitude, with no site restrictions. The coordinates for Channel 282C3 at Keeseville, New York are 44-31-31 North Latitude and 73-31-07 West Longitude, with a site restriction of 3.8 kilometers (2.3 miles) northwest of Keeseville. The coordinates for Channel 237A at Hartford, Vermont, are 43-43-45 North Latitude and 72-22-22 West Longitude, with a site restriction of 8.1 kilometers (5.0 miles) north of Hartford. The coordinates for Channel 231A at Morrisonville, New York, are 44-40-19 North Latitude and 73-32-17 West Longitude, with a site restriction of 3.0 kilometers (1.9 miles) southeast of Morrisonville.

DATES: Comments must be filed on or before May 31, 2005, and reply comments on or before June 14, 2005.

ADDRESSES: Secretary, Federal Communications Commission, 445 12th Street, SW., Room TW-A325, Washington, DC 20554. In addition to filing comments with the FCC, interested parties should serve Petitioner's counsel, as follows: Stephen Diaz Gavin, Esq, Patton Boggs LLP; 2550 M Street, NW.; Washington, DC 20037.

FOR FURTHER INFORMATION CONTACT: R. Barthen Gorman, Media Bureau, (202) 418-2180.

SUPPLEMENTARY INFORMATION: This is a synopsis of the Commission's Notice of Proposed Rule Making, MB Docket No. 05-162, adopted April 6, 2005 and released April 8, 2005. The full text of this Commission decision is available for inspection and copying during regular business hours in the FCC's Reference Information Center at Portals II, 445 12th Street, SW., CY-A257, Washington, DC 20554. This document may also be purchased from the Commission's duplicating contractors, Best Copy and Printing, Inc., Portals II, 445 12th Street, SW., Room CY-B402, Washington, DC 20554, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

FM Station WWOD was granted a license to specify operation on Channel 282C3 in lieu of Channel 282A at Hartford, Vermont. (See BLH-19960919KA.) The FM Table of Allotments does not reflect this change.

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for Part 73 continues to read as follows:

Authority: 47 U.S.C. 154, 303, 334, and 336.

§ 73.202 [Amended]

2. Section 73.202(b), the Table of FM Allotments under New Hampshire, is amended by adding Enfield, Channel 282A.

3. Section 73.202(b), the Table of FM allotments under New York, is amended by removing Channel 231A and adding Channel 282C3 at Keeseville; and adding Morrisonville, Channel 231A.

4. Section 73.202(b), the Table of FM Allotments under Vermont, is amended by removing Channel 282A and adding Channel 237A at Hartford; removing White River Junction, Channel 237A.

Federal Communications Commission.
John A. Karousos,
Assistant Chief, Audio Division, Media Bureau.

[FR Doc. 05-8207 Filed 4-26-05; 8:45 am]

BILLING CODE 6712-01-P